DEPARTMENT of DEFENSE

Department of the Army; Corps of Engineers

Notice of Availability of the Draft Feasibility Study/Environmental Impact Statement for the Chatfield Reservoir Storage Reallocation, Littleton, CO

AGENCY: Department of the Army, U.S. Army Corps of Engineers, DoD.

ACTION: Notice of availability.

SUMMARY: In accordance with the National Environmental Policy Act of 1969, as amended, the U.S. Army Corps of Engineers has prepared a Draft Feasibility Study/Environmental Impact Statement (FR/EIS) for the Chatfield Reservoir Storage Reallocation, Littleton, Colorado and by this notice is announcing the opening of the comment period.

DATES: The comment period will be open from June 8, 2012 to August 7, 2012. Public meetings will take place in June, 2012. The specific schedule is provided under SUPPLEMENTARY INFORMATION.

ADDRESSES: Written comments should be sent to: Department of the Army; Corps of Engineers, Omaha District; CENWO-PM-AA; ATTN: Chatfield Reservoir Storage Reallocation FR/EIS; 1616 Capitol Avenue; Omaha, NE 68102-4901. Comments can also be emailed to: chatfieldstudy@usace.army.mil. Comments on the Draft FR/EIS for the Chatfield Reservoir Storage Reallocation must be postmarked, emailed, or otherwise submitted no later than August 7, 2012.

FOR FURTHER INFORMATION CONTACT: For further information and/or questions about the Chatfield Reservoir Storage Reallocation FR/EIS, please contact Ms. Gwyn Jarrett, Project Manager, by telephone: (402) 995-2717, by mail: 1616 Capitol Avenue, Omaha, NE 68102-4901, or by email: chatfieldstudy@usace.army.mil. For inquiries from the media, please contact the USACE Omaha District Public Affairs Officer (PAO), Ms. Monique Farmer by telephone (402) 995-2416, by mail: 1616 Capitol Avenue, Omaha, NE 68102-4901, or by email: Monique.l.Farmer@usace.army.mil.

SUPPLEMENTARY INFORMATION:

1. Background. Population growth within the Denver, Colorado, metropolitan area continues to create a demand on water providers. Colorado's population is projected to be between 8.6 and 10.3 million in 2050. The Statewide Water Supply Initiative (SWSI), commissioned by the State Legislature, estimates that by 2050, Colorado will need between 600,000 and 1 million acre-feet/year of additional municipal and industrial water. There is also a strong need for additional water supplies for the agricultural community in the South Platte Basin as thousands of acres of previously irrigated land has not been farmed in recent years due to widespread irrigation well curtailments. The purpose and need of the Chatfield Reservoir Storage Reallocation study is to increase availability of water, sustainable over the 50-year period of analysis, in the greater Denver area so that a larger proportion of existing and future (increasing) water needs can be met.

By authority provided under Section 808 of the Water Resources Development Act of 1986 (Pub. L. 99-622), as amended by Section 3042 of the Water Resources Development Act of 2007 (Pub. L. 110-114), the Secretary of the Army, upon request of and in coordination with, the Colorado Department of Natural Resources (CDNR), and upon the Chief of Engineers' finding of feasibility and economic justification, may reassign a portion of the storage space in the Chatfield Lake project to joint flood control-conservation purposes, including storage for municipal and industrial water supply, agriculture, environmental restoration, and recreation and fishery habitat protection and enhancement. The reallocation was conditioned upon the appropriate non-Federal interests agreeing to repay the cost allocated to such storage in accordance with the provisions of the Water Supply Act of 1958, the Federal Water Project Recreation Act, and such other Federal laws as the Secretary determines appropriate. The payments would go to the United States Treasury. The recreation modifications and environmental mitigation work are additionally authorized by Section 103(c)(2) WRDA 1986, requiring non-Federal payment of 100 percent of the costs of municipal and industrial water supply projects, and this work will be cost shared pursuant to that section.

It is the purpose of this study to identify alternatives, compare those alternatives, and select the best alternative for meeting the needs based on solid planning principles. The FR/EIS allows the public, cooperating agencies, and Corps decision makers to compare the impacts and costs among a range of alternatives.

2. Document Availability. The Chatfield Reservoir Storage Reallocation FR/EIS is available online at http://www.nwo.usace.army.mil/html/pd-p/Plan_Formulation/GI/GI_Chatfield.html. Hard copies will be available at the following community libraries and Corps of Engineers Chatfield Project Office no later than June 15, 2012.

Highlands Ranch Library, 9292 Ridgeline Blvd., Highlands Ranch, CO 80129, 303-647-6642.

Colorado Water Conservation Board, 1313 Sherman Street, Room 721, Denver, CO 80203, 303-866-3441.

Columbine Library, 7706 West Bowles Avenue, Littleton, CO 80123, 303-235-5275.

Lincoln Park Library, 919 7th Street, Suite 100, Greeley, CO 80631, 970-546-8460.

Aurora Public Library, 14949 E. Alameda Parkway, Aurora, CO 80012, (303) 739-6600

U.S. Army Corps of Engineers, Tri-Lakes Project Office, 9307 S. Wadsworth Blvd., Littleton, CO 80128.

3. Public Involvement Meetings. The Omaha District of the U.S. Army Corps of Engineers invites all interested entities including Tribal governments, Federal agencies, state and local governments, and the general public to comment on the Chatfield Reservoir Storage Reallocation FR/EIS. The public comment period began with the publication of this notice on June 8, 2012 and will continue until August 7, 2012.

All public involvement meetings will use an open house format and will include the opportunity to make public comment. Informational materials about the Chatfield Reservoir Storage Reallocation FR/EIS will be located throughout the room for participant perusal throughout the evening. Corps representatives will be available to meet one-on-one with meeting participants. In addition to the public comments being recorded, written comments will be collected on comment cards, and the opportunity to have formal verbal comments transcribed will be available. All forms of comment will be weighted equally. Input from the public involvement meetings, along with comments received by other means (regular mail or email), will be used to refine the document before a Final FR/EIS is released.

The Corps has scheduled public involvement meetings from 5:30 p.m. to 8:30 p.m. at the following locations:

1. Monday, June 25th—The Wildlife Experience, 10035 S. Peoria St. Parker, CO 80134, (720) 488-3300.

2. Tuesday, June 26th—Dakota Ridge High School, 13399 West Coal Mine Avenue, Littleton, CO 80127, (303) 982-1970.

3. Wednesday, June 27th—Valley High School, 1001 Birch St, Gilcrest, CO 80623, (970) 737-2494.

If you require assistance under the Americans with Disabilities Act please send your name and phone via email to Colleen.P.Obrien@usace.army.mil at least three days prior to the meeting you plan to attend. Persons who use a telecommunications service for the deaf (TDD) may call the Federal Information Relay Service (FIRS) at (800) 877-8339, 24 hours a day, seven days a week to relay this same information.

For more information about the Chatfield Reservoir Storage Reallocation FR/EIS, please visit http://www.nwo.usace.army.mil/html/pd-p/Plan_Formulation/GI/GI_Chatfield.html.

Brenda S. Bowen,
Army Federal Register Liaison Officer.

[FR Doc. 2012-13914 Filed 6-7-12; 8:45 am]

BILLING CODE 3720-58-P